DEPARTMENT OF DEFENSE

Department of the Army, Corps of Engineers

Notice of Availability for the Draft Environmental Impact Statement for the Gregory Canyon Landfill Project, San Diego County, CA

AGENCY: Department of the Army—U.S. Army Corps of Engineers, DoD.

ACTION: Notice of Availability.

SUMMARY: The U.S. Army Corps of Engineers, Los Angeles District (Regulatory Division) has completed a Draft Environmental Impact Statement (EIS) for the proposed Gregory Canyon Landfill Project in San Diego County, CA. The project proponent and landowner, Gregory Canyon, Ltd., requires authorization pursuant to Section 404 of the Clean Water Act to discharge fill material into waters of the U.S. associated with the construction of the proposed project.

FOR FURTHER INFORMATION CONTACT: Questions or comments concerning the Draft EIS should be directed to William H. Miller, Senior Project Manager, Attention: Gregory Canyon, Regulatory Division, U.S. Army Corps of Engineers, 6010 Hidden Valley Road, Suite 105, Carlsbad, CA, (602) 230-6954 or gregorycanyonEIS-SPL@usace.army.mil.

SUPPLEMENTARY INFORMATION: This Draft EIS has been filed with the Environmental Protection Agency to be published in the Federal Register. The review period for the Draft EIS will begin from the date of publishing the Notice of Availability in the Federal Register, which is on December 14, 2012. Please forward your comments for the Draft EIS to the contact listed above by February 12, 2013.

David J. Castanon,
Chief, Regulatory Division, Los Angeles District.

[FR Doc. 2012-30197 Filed 12-13-12; 8:45 am]

BILLING CODE 3720-58-P